DEPARTMENT OF TRANSPORTATION

Federal Aviation Administration

14 CFR Part 39

[Docket No. FAA-2014-0227; Directorate Identifier 2013-NM-211-AD]

RIN 2120-AA64

Airworthiness Directives Lockheed Martin Corporation/Lockheed Martin Aeronautics Company Airplanes

AGENCY: Federal Aviation Administration (FAA), DOT.

ACTION: Supplemental notice of proposed rulemaking (NPRM); reopening of comment period.

SUMMARY: We are revising an earlier proposed airworthiness directive (AD) that proposed to supersede AD 95-26-11, for all Lockheed Martin Corporation/Lockheed Martin Aeronautics Company Model L-1011 series airplanes. AD 95-26-11 currently requires repetitive inspections to detect cracking of the fittings that attach the aft pressure bulkhead to the fuselage stringers, repetitive inspections to detect cracking of the fittings and of the splice tab of the aft pressure bulkhead, and corrective actions if necessary. The NPRM proposed to reduce the compliance time; add inspections for cracking of certain aft fuselage skin panels; add a structural modification; and also add a post-modification inspection program. The NPRM was prompted by a determination that the fittings at stringer attachments to the upper region of the aft pressure bulkhead are subject to widespread fatigue damage (WFD), which could result in cracking in the aft pressure bulkhead. This action revises the NPRM by reducing the post-structural modification repetitive inspection interval. We are proposing this supplemental NPRM (SNPRM) to prevent simultaneous failure of multiple stringer end fittings through fatigue cracking at the aft pressure bulkhead, which could lead to rapid decompression of the airplane. Since this action imposes an additional burden over that proposed in the NPRM, we are reopening the comment period to allow the public the chance to comment on these proposed changes.

DATES: We must receive comments on this SNPRM by January 2, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact Lockheed Martin Corporation/Lockheed Martin Aeronautics Company, L1011 Technical Support Center, Dept. 6A4M, Zone 0579, 86 South Cobb Drive, Marietta, GA 30063-0579; telephone 770-494-5444; fax 770-494-5445; email L1011.support@lmco.com; Internet http://www.lockheedmartin.com/ams/tools/TechPubs.html. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0227; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Carl Gray, Aerospace Engineer, Airframe Branch, ACE-117A, FAA, Atlanta Aircraft Certification Office (ACO), 1701 Columbia Avenue, College Park, GA 30337; phone: 404-474-5554; fax: 404-474-5605; email: carl.w.gray@faa.gov.

SUPPLEMENTARY INFORMATION:

Comments Invited

We invite you to send any written relevant data, views, or arguments about this proposed AD. Send your comments to an address listed under the ADDRESSES section. Include “Docket No. FAA-2014-0227; Directorate Identifier 2013-NM-211-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We issued an NPRM to amend 14 CFR part 39 by adding an AD that would apply to all Lockheed Martin Corporation/Lockheed Martin Aeronautics Company Model L-1011 series airplanes. The NPRM published in the Federal Register on April 14, 2014 (79 FR 20819). The NPRM proposed to supersede Airworthiness Directive AD 95-26-11, Amendment 39-9469 (60 FR 66870, December 27, 1995), for all Lockheed Martin Corporation/Lockheed Martin Aeronautics Company Model L-1011 series airplanes. AD 95-26-11 currently requires repetitive inspections to detect cracking of the fittings that attach the aft pressure bulkhead to the fuselage stringers, repetitive inspections to detect cracking of the fittings and of the splice tab of the aft pressure bulkhead, and corrective actions if necessary. The NPRM proposed to reduce the compliance time; add inspections for cracking of certain aft fuselage skin panels; add a structural modification; and also add a post-modification inspection program.

Actions Since Previous NPRM Was Issued

Since we issued the NPRM, we have determined that the post-structural modification repetitive inspection interval should be revised.

Comments

We gave the public the opportunity to comment on the NPRM (79 FR 20819, April 14, 2014). The following presents the comment received on the NPRM, and the FAA's response to the comment.

Request To Revise Repetitive Inspection Compliance Time

Lockheed requested that we revise the post-structural modification repetitive inspection interval in paragraph (s) of the NPRM (79 FR 20819, April 14, 2014) from 13,875 flight cycles to 1,750 flight cycles. Paragraph (s) of the NPRM is identified as paragraph (r) in this SNPRM. Lockheed explained that the 1,750 flight cycles inspection interval meets the intent of Lockheed Service Bulletin 093-53-105, Revision 3, dated May 31, 2013.

We agree to revise the repetitive inspection interval in paragraph (r) of this SNPRM to 1,750 flight cycles. The 13,875 flight cycles interval was a typographical error.

Revised Compliance Time

We have also determined that if any cracking is found during any inspection specified in this SNPRM, it must be repaired before further flight in order to address the identified unsafe condition. We have removed (q) of this SNPRM, which deferred replacement of cracked fittings/splice tabs and certain inspections. We have revised the compliance time inparagraph (m)(1)(ii) of this AD from “within 1,750 flight cycles after finding the crack” to “before further flight.” In addition, we added “The deferral specified in paragraphs (m)(1) and (m)(2) of this AD cannot be done as of the effective date of this AD.”

We have also revised paragraphs (n) and (o) of this SNPRM to remove the reference to paragraph (q) of this SNPRM.

FAA's Determination

We are proposing this SNPRM because we evaluated all the relevant information and determined the unsafe condition described previously is likely to exist or develop in other products of the same type design. The change described above expands the scope of the NPRM (79 FR 20819, April 14, 2014). As a result, we have determined that it is necessary to reopen the comment period to provide additional opportunity for the public to comment on this SNPRM.

Proposed Requirements of This SNPRM

This SNPRM would retain certain requirements of AD 95-26-11, Amendment 39-9469 (60 FR 66870, December 27, 1995). This SNPRM would reduce the compliance time; add inspections for cracking of certain aft fuselage skin panels; add a structural modification; and also add a post-modification inspection program.

Costs of Compliance

We estimate that this proposed AD affects 26 airplanes of U.S. registry.

We estimate the following costs to comply with this proposed AD:

Estimated Costs
Action | Labor cost | Parts cost | Cost per product | Cost on U.S. operators
Inspections [actions retained from AD 95-26-11, Amendment 39-9469 (60 FR 66870, December 27, 1995)] | 23 work-hours × $85 per hour = $1,955 per inspection cycle | $0 | $1,955 per inspection cycle | $50,830 per inspection cycle.
Inspections and modification [new proposed action] | 185 work-hours × $85 per hour = $15,725 | 6,750 | 22,475 | 584,350.

We estimate the following costs to do any necessary replacements that would be required based on the results of the proposed inspection. We have no way of determining the number of aircraft that might need these replacements:

On-Condition Costs
Action | Labor cost | Parts cost | Cost per product
Replacement of one fitting | 16 work-hour × $85 per hour = $1,360 | $250 | $1,610

We have received no definitive data that would enable us to provide cost estimates for the other on-condition actions specified in this proposed AD.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. Amend § 39.13 by removing Airworthiness Directive (AD) 95-26-11, Amendment 39-9469 (60 FR 66870, December 27, 1995), and adding the following new AD:

Lockheed Martin Corporation/Lockheed Martin Aeronautics Company: Docket No. FAA-2014-0227; Directorate Identifier 2013-NM-211-AD.

(a) Comments Due Date

We must receive comments by January 2, 2015.

(b) Affected ADs

This AD replaces AD 95-26-11, Amendment 39-9469 (60 FR 66870, December 27, 1995).

(c) Applicability

This AD applies to all Lockheed Martin Corporation/Lockheed Martin Aeronautics Company Model L-1011-385-1, L-1011-385-1-14, L-1011-385-1-15, and L-1011-385-3 airplanes, certificated in any category.

(d) Subject

Air Transport Association (ATA) of America Code 53, Fuselage.

(e) Unsafe Condition

This AD was prompted by a determination that the fittings at stringer attachments to the upper region of the aft pressure bulkhead are subject to widespread fatigue damage (WFD). We are issuing this AD to prevent simultaneous failure of multiple stringer end fittings through fatigue cracking at the aft pressure bulkhead, which could lead to rapid decompression of the airplane.

(f) Compliance

Comply with this AD within the compliance times specified, unless already done.

(g) Retained Detailed Visual Inspection

This paragraph restates the requirements of paragraph (a) of AD 95-26-11, Amendment 39-9469 (60 FR 66870, December 27, 1995), with no changes. Perform a detailed visual inspection to detect cracking of the fittings that attach the aft pressure bulkhead to the fuselage stringers (hereinafter referred to as “fittings”) at stringers 1 through 10 (right side) and at stringers 56 through 64 (left side), at the later of the times specified in either paragraph (g)(1) or (g)(2) of this AD.

(1) Prior to the accumulation of 20,000 total flight cycles; or

(2) Within the next 25 flight cycles or 10 days after September 28, 1995 (the effective date of AD 95-18-52, Amendment 39-9366 (60 FR 47465, September 13, 1995)), whichever occurs earlier.

(h) Retained Corrective Action for Cracked Fitting

This paragraph restates the requirements of paragraph (c) of AD 95-26-11, Amendment 39-9469 (60 FR 66870, December 27, 1995), with no changes. If any cracked fitting is detected during the inspection required by paragraph (g) of this AD: Before further flight, accomplish the requirements of paragraphs (h)(1) and (h)(2) of this AD.

(1) Replace the cracked fitting with a new fitting, or with a serviceable fitting on which a detailed visual inspection has been performed previously to detect cracking and that has been found to be free of cracks.

(2) Perform a detailed visual inspection to detect cracking in the radius at the lower end of the vertical leg of the bulkhead T-shaped frame between the stringer locations on either side of the stringer having the cracked fitting. If any cracked T-shaped frame is detected: Before further flight, repair in accordance with a method approved by the Manager, Atlanta Aircraft Certification Office (ACO), FAA.

(i) Retained Repetitive Fitting Inspections

This paragraph restates the requirements of paragraph (d) of AD 95-26-11, Amendment 39-9469 (60 FR 66870, December 27, 1995), with no changes. Repeat the inspections and other necessary actions required by paragraphs (g) and (h) of this AD at intervals not to exceed 1,800 flight cycles or 3,000 flight hours, whichever occurs earlier, until paragraph (j) of this AD is accomplished.

(j) Retained Eddy Current Surface Scan (ECSS) Inspections, and Related Investigative and Corrective Actions

This paragraph restates the requirements of paragraph (e) of AD 95-26-11, Amendment 39-9469 (60 FR 66870, December 27, 1995), with revised compliance times specified in paragraph (k) of this AD, exclusion of an ECSS inspection for certain airplanes, and new service information. Except as provided by paragraph (l) of this AD: At the applicable time specified in paragraph (k)(1) of this AD, accomplish the requirements of paragraphs (j)(1) and (j)(2) of this AD. Repeat the ECSS inspections thereafter at the compliance time specified in paragraph (k)(2) of this AD. Accomplishment of the ECSS inspection constitutes terminating action for the repetitive inspection requirements of paragraph (i) of this AD.

(1) Perform an ECSS inspection to detect cracking of the fittings at stringers 1 through 14 (right side) and at stringers 52 through 64 (left side), in accordance with the Accomplishment Instructions of Lockheed L-1011 Service Bulletin 093-53-105, Revision 1, dated November 17, 1995; or Lockheed Service Bulletin 093-53-105, Revision 3, dated May 31, 2013; except for airplanes with a large (47-inch-wide) aft passenger door, an ECSS inspection of stringers 12, 13, 53, and 54 is not required by this paragraph. Except as provided by paragraph (m) of this AD, if any cracking is detected, prior to further flight, replace the fitting with a new fitting without pilot holes, rework the fitting, and perform various follow-on actions (i.e., bolt hole eddy current (BHEC), ECSS, and borescope inspections; and repair) of the inner and outer tee caps, in accordance with the Accomplishment Instructions of Lockheed L-1011 Service Bulletin 093-53-105, Revision 1, dated November 17, 1995; or Lockheed Service Bulletin 093-53-105, Revision 3, dated May 31, 2013, except as required by paragraph (p) of this AD. As of the effective date of this AD, use only Lockheed Service Bulletin 093-53-105, Revision 3, dated May 31, 2013, for accomplishing the actions required by this paragraph.

(2) Perform an ECSS inspection to detect cracking of the lower (or inner) surface of the upper bonded splice tab of the bulkhead assembly at stringers 1 through 14 (right side) and at stringers 52 through 64 (left side), in accordance with the Accomplishment Instructions of Lockheed L-1011 Service Bulletin 093-53-105, Revision 1, dated November 17, 1995; or Lockheed Service Bulletin 093-53-105, Revision 3, dated May 31, 2013. As of the effective date of this AD, use only Lockheed Service Bulletin 093-53-105, Revision 3, dated May 31, 2013, for accomplishing the actions required by this paragraph.

(i) Except as provided by paragraph (m) of this AD, if any cracking is detected at the upper bonded splice tab, repair in accordance with a method approved by the Manager, Atlanta ACO, FAA.

(ii) Except as provided by paragraph (m) of this AD, if any cracking is detected at a fastener, prior to further flight, perform a BHEC inspection to detect cracking of the forward flange of the inner tee cap, in accordance with the Accomplishment Instructions of Lockheed L-1011 Service Bulletin 093-53-105, Revision 1, dated November 17, 1995; or Lockheed Service Bulletin 093-53-105, Revision 3, dated May 31, 2013. If any cracking is detected, prior to further flight, repair in accordance with the Accomplishment Instructions of Lockheed L-1011 Service Bulletin 093-53-105, Revision 1, dated November 17, 1995; or Lockheed Service Bulletin 093-53-105, Revision 3, dated May 31, 2013, except as required by paragraph (p) of this AD. As of the effective date of this AD, use only Lockheed L-1011 Service Bulletin 093-53-105, Revision 3, dated May 31, 2013, for accomplishing the actions required by this paragraph.

(k) New Revised Compliance Times for Paragraph (j) of This AD

(1) Do the initial inspections required by paragraph (j) of this AD at the earlier of the times specified in paragraphs (k)(1)(i) and (k)(1)(ii) of this AD.

(i) Prior to the accumulation of 20,000 total flight cycles, or within 30 days after January 11, 1996 (the effective date of date of AD 95-26-11, Amendment 39-9469 (60 FR 66870, December 27, 1995)), whichever occurs later.

(ii) At the later of the times specified in paragraphs (k)(1)(ii)(A) and (k)(1)(ii)(B) of this AD.

(A) Before the accumulation of 13,875 total flight cycles.

(B) Within 365 days or 1,000 flight cycles after the effective date of this AD, whichever occurs first.

(2) Repeat the inspections specified in paragraph (j) of this AD within 2,500 flight cycles after accomplishing the most recent inspection required by paragraph (j) of this AD, and repeat the inspection thereafter at intervals not to exceed 1,750 flight cycles.

(l) Retained Inspection Deferral for Paragraph (j) of this AD

This paragraph restates the requirements of paragraph (f) of AD 95-26-11, Amendment 39-9469 (60 FR 66870, December 27, 1995). Accomplishment of the initial ECSS inspections required by paragraph (j) of this AD may be deferred to a date within 120 days after January 11, 1996 (the effective date of AD 95-26-11), provided that, in the interim, a visual inspection as specified in paragraph (g) of this AD is accomplished within 30 days after January 11, 1996 (the effective date of AD 95-26-11), and repeated thereafter at intervals not to exceed 50 flight cycles. Once the ECSS inspections begin, the visual inspections may be terminated.

(m) Retained Inspection Deferral With Revised Compliance Time and New Deferral

This paragraph restates the requirements of paragraph (g) of AD 95-26-11, Amendment 39-9469 (60 FR 66870, December 27, 1995), with a revised compliance time, service information, and a new deferred action. As of the effective date of this AD, the deferral specified in paragraphs (m)(1) and (m)(2) of this AD cannot be done. If cracking was found before the effective date of this AD, the deferrel specified in paragraphs (m)(1) and (m)(2) of this AD may be done.

(1) If two or more adjacent fittings on both sides of the cracked fittings or bonded splice tabs/fasteners are determined to be free of cracks by the ECSS inspection required by paragraphs (j)(1) and (j)(2) of this AD, repeat the ECSS inspection of the adjacent fittings thereafter at intervals not to exceed 600 flight cycles until the cracked fittings or splice tabs/fasteners are replaced or repaired, in accordance with the Accomplishment Instructions of Lockheed L-1011 Service Bulletin 093-53-105, Revision 1, dated November 17, 1995; or Lockheed Service Bulletin 093-53-105, Revision 3, dated May 31, 2013. At the applicable time specified in paragraphs (m)(1)(i) and (m)(1)(ii) of this AD: Replace the cracked fitting and/or splice tab/fasteners, in accordance with the Accomplishment Instructions of Lockheed L-1011 Service Bulletin 093-53-105, Revision 1, dated November 17, 1995; or Lockheed Service Bulletin 093-53-105, Revision 3, dated May 31, 2013. As of the effective date of this AD, use only Lockheed Service Bulletin 093-53-105, Revision 3, dated May 31, 2013, for accomplishing the actions required by this paragraph.

(i) For any crack found before the effective date of this AD: Within 2,500 flight cycles after finding the crack.

(ii) For any crack found on or after the effective date of this AD: Before further flight after finding the crack.

(2) If two or more adjacent fittings on both sides of the cracked fittings or bonded splice tabs/fasteners are determined to be free of cracks by the ECSS inspection required by paragraphs (j)(1) and (j)(2) of this AD, the follow-on inspection (i.e., BHEC, ECSS, and borescope inspections) of the inner and outer tee caps required by paragraph (j)(1) of this AD may also be deferred until the cracked fittings are replaced as required by paragraph (m)(1) of this AD, but no later than before the accumulation of 20,800 total flight cycles.

(n) New Repetitive Borescope Inspections of Certain End Fittings and Corrective Actions

For airplanes with a large (47-inch-wide) aft passenger door: At the later of the times specified in paragraphs (n)(1) and (n)(2) of this AD, do a borescope inspection for cracking of the stringer end fittings at stringer locations 12, 13, 53, and 54; and do all applicable related investigative and corrective actions; in accordance with the Accomplishment Instructions of Lockheed Service Bulletin 093-53-105, Revision 3, dated May 31, 2013, except as specified in paragraph (p) of this AD. Do all applicable related investigative and corrective actions before further flight. Repeat the inspection of the stringer end fittings thereafter at intervals not to exceed 1,750 flight cycles until the actions required by paragraph (q) of this AD have been done.

(1) Before the accumulation of 13,875 total flight cycles.

(2) Within 365 days or 1,000 flight cycles after the effective date of this AD, whichever occurs earlier.

(o) New Repetitive Borescope Inspections of Fuselage Skin Panels

For airplanes with a large (47-inch-wide) aft passenger door: At the later of the times specified in paragraphs (o)(1) and (o)(2) of this AD, do an ECSS inspection for cracking of the left and right aft fuselage skin panels; and do all applicable related investigative and corrective actions; in accordance with the Accomplishment Instructions of Lockheed Service Bulletin 093-53-105, Revision 3, dated May 31, 2013, except as specified in paragraph (p) of this AD. Do all applicable related investigative and corrective actions before further flight. Repeat the inspection of the aft fuselage skin panels thereafter at intervals not to exceed 1,750 flight cycles until the modification required by paragraph (q) of this AD is done.

(1) Before the accumulation of 13,875 total flight cycles.

(2) Within 365 days or 1,000 flight cycles after the effective date of this AD, whichever occurs first.

(p) New Service Information Exception

If any cracking is found during any inspection required by this AD, and Lockheed Service Bulletin 093-53-105, Revision 3, dated May 31, 2013, specifies contacting Lockheed for appropriate action: Before further flight, repair the cracking in accordance with a method approved by the Manager, Atlanta ACO, FAA. As of the effective date of this AD, for a repair method to be approved by the Manager, Atlanta ACO, as required by this paragraph, the Manager's approval letter must specifically refer to this AD.

(q) New Pre-Structural Modification Inspections and Structural Modification

Before the accumulation of 20,800 total flight cycles: Do the applicable actions specified in paragraphs (q)(1) and (q)(2) of this AD.

(1) Perform pre-structural modification inspections by doing the actions required by paragraphs (j), (n), and (o) of this AD.

(2) Perform a structural modification of the aft pressure bulkhead by removing and replacing all stringer end fittings with new or refurbished fittings at stringers 1 through 14, and 52 through 64, in accordance with the Accomplishment Instructions of Lockheed Service Bulletin 093-53-105, Revision 3, dated May 31, 2013.

(r) New Post-Structural Modification Repetitive Inspections

Within 13,875 flight cycles after performing the actions required by paragraph (q)(2) of this AD: Do the actions specified in paragraphs (j), (n), and (o) of this AD, and repeat thereafter at intervals not to exceed 1,750 flight cycles.

(s) No Reporting Requirement

Although Lockheed Service Bulletin 093-53-105, Revision 3, dated May 31, 2013, referenced in this AD specifies to submit certain information to the manufacturer, this AD does not include that requirement.

(t) Alternative Methods of Compliance (AMOCs)

(1) The Manager, Atlanta ACO, FAA, has the authority to approve AMOCs for this AD, if requested using the procedures found in 14 CFR 39.19. In accordance with 14 CFR 39.19, send your request to your principal inspector or local Flight Standards District Office, as appropriate. If sending information directly to the manager of the ACO, send it to the attention of the person identified in paragraph (u)(1) of this AD.

(2) Before using any approved AMOC, notify your appropriate principal inspector, or lacking a principal inspector, the manager of the local flight standards district office/certificate holding district office.

(u) Related Information

(1) For more information about this AD, contact Carl Gray, Aerospace Engineer, Airframe Branch, ACE-117A, FAA, Atlanta Aircraft Certification Office (ACO), 1701 Columbia Avenue, College Park, GA 30337; phone: 404-474-5554; fax: 404-474-5605; email: carl.w.gray@faa.gov.

(2) For service information identified in this AD, contact Lockheed Martin Corporation/Lockheed Martin Aeronautics Company, L1011 Technical Support Center, Dept. 6A4M, Zone 0579, 86 South Cobb Drive, Marietta, GA 30063-0579; telephone 770-494-5444; fax 770-494-5445; email L1011.support@lmco.com; Internet http://www.lockheedmartin.com/ams/tools/TechPubs.html. You may view this service information at the FAA, Transport Airplane Directorate, 1601 Lind Avenue SW., Renton, WA. For information on the availability of this material at the FAA, call 425-227-1221.

Issued in Renton, Washington, on November 5, 2014.
Jeffrey E. Duven,
Manager, Transport Airplane Directorate, Aircraft Certification Service.

[FR Doc. 2014-27067 Filed 11-14-14; 8:45 am]

BILLING CODE 4910-13-P